DEPARTMENT OF ENERGY

Federal Energy Regulatory Commission

Notice To Hold Proceeding in Abeyance

| Docket Nos.
PPL Electric Utilities Corporation | ER21-2282-000.
PJM Interconnection, L.L.C | ER21-2282-001.
PPL Electric Utilities Corporation | ER22-2114-000.
PJM Interconnection, L.L.C | ER21-2282-000, ER21-2282-001 (consolidated).
PPL Electric Utilities Corporation | ER22-2114-001.
PJM Interconnection, L.L.C | ER21-2282-000, ER21-2282-001 (consolidated).

On November 19, 2021, the Commission issued an order in the above-captioned dockets, which accepted and suspended PJM Interconnection, L.L.C.'s (PJM) filing concerning transmission owner (TO) Initial Funding ¹ for five months, to become effective February 1, 2022, subject to refund and the outcome of paper hearing procedures.² The PJM Paper Hearing procedures are pending before the Commission. The Commission also accepted and suspended PJM's two additional filings, which included ministerial tariff revisions related to those being considered in the PJM Paper Hearing procedures, subject to refund and the outcome of the PJM Paper Hearing procedures, and consolidated those proceedings with the ongoing PJM Paper Hearing procedures (collectively, PJM Consolidated Proceedings).³

¹ Under TO Initial Funding, the transmission owner unilaterally elects to initially fund the network upgrade capital costs that it incurs to provide interconnection service to the interconnection customer, and the transmission owner subsequently recovers the network upgrade capital costs through charges that provide a return on and of these network upgrade capital costs from the interconnection customer. Midcontinent Indep. Sys. Operator, Inc., 187 FERC ¶ 61,170, at P 1 n.1 (2024) (Order to Show Cause).

² PPL Elec. Utils. Corp., 177 FERC ¶ 61,123, at PP 2, 24, 57 (2021) (PJM Paper Hearing procedures). Also, on December 20, 2022, the Commission accepted and suspended certain ministerial conforming tariff revisions related to those being considered in the PJM Paper Hearing procedures, to become effective January 3, 2023 and December 31, 9998, as requested, subject to refund and the outcome of the PJM Paper Hearing procedures, and consolidated that proceeding with the ongoing PJM Paper Hearing procedures. PPL Elec. Util. Corp., 181 FERC ¶ 61,245, at P 1 (2022). On April 4, 2024, the Commission accepted and suspended additional ministerial conforming tariff revisions changing the December 31, 9998 effective date to October 5, 2023, subject to refund and the outcome of the PJM Paper Hearing procedures, and consolidated that proceeding with the ongoing PJM Paper Hearing procedures. PPL Elec. Util. Corp., 187 FERC ¶ 61,010 (2024).

³ See supra note 2.

On June 13, 2024, the Commission issued the Order to Show Cause finding that the existing open access transmission tariffs of certain regional transmission organizations and independent system operators, including PJM, appear to be unjust, unreasonable, and unduly discriminatory or preferential because they include provisions for transmission owners to unilaterally elect TO Initial Funding.⁴

⁴ Order to Show Cause, 187 FERC ¶ 61,170 at P 1.

Upon consideration, given the common issues raised in the PJM Paper Hearing procedures, the PJM Consolidated Proceedings, and the Order to Show Cause proceeding, notice is hereby given that the PJM Paper Hearing procedures and the Consolidated PJM Proceedings are held in abeyance pending the outcome of the Order to Show Cause proceeding.

Dated: June 13, 2024.
Debbie-Anne A. Reese,
Acting Secretary.

[FR Doc. 2024-13524 Filed 6-20-24; 8:45 am]

BILLING CODE 6717-01-P